DEPARTMENT OF LABOR

Employee Benefits Security Administration

123rd Full Meeting, Advisory Council on Employee Welfare and Pension Benefits Plans; Notice of Meeting

Pursuant to the authority contained in Section 512 of the Employee Retirement Income Security Act of 1974 (ERISA), 29 U.S.C. 1142, the 123rd open meeting of the full Advisory Council on Employee Welfare and Pension Benefit Plans will be held via teleconference on Tuesday, September 23, 2003.

The session will take place in Room N-3437 C-D, U.S. Department of Labor Building, 200 Constitution Avenue, NW., Washington, DC 20210. The purpose of the meeting, which will begin at 2 p.m. and end at approximately 3 p.m., is for the chairpersons of the Advisory Council's Working Groups to provide progress reports on their individual study topics.

Organizations or members of the public wishing to submit a written statement pertaining to any topics under consideration by the Advisory Council may do so by submitting 20 copies to Sharon Morrissey, Executive Secretary, ERISA Advisory Council, U.S. Department of Labor, Room N-5677, 200 Constitution Avenue, NW., Washington, DC 20210. Statements received on or before September 17, 2003 will be included in the record of the meeting. Individuals or representatives of organizations wishing to address the Advisory Council should forward their request to the Executive Secretary at the above address or via telephone at (202) 693-8668. Oral presentations will be limited to 10 minutes, but an extended statement may be submitted for the record. Individuals with disabilities who need special accommodations should contact Sharon Morrissey by September 17 at the address indicated in this notice.

Signed at Washington, DC, this 26th day of August, 2003.
Ann L. Combs,
Assistant Secretary, Employee Benefits Security Administration.

[FR Doc. 03-22385 Filed 9-2-03; 8:45 am]

BILLING CODE 4510-29-M